DEPARTMENT OF HOUSING AND URBAN DEVELOPMENT

[Docket No. FR-5124-N-02]

Notice of Proposed Information Collection for Public Comment: Restrictions on Assistance to Noncitizens

AGENCY: Office of the Assistant Secretary for Public and Indian Housing, HUD.

ACTION: Notice.

SUMMARY: The proposed information collection requirement described below will be submitted to the Office of Management and Budget (OMB) for review, as required by the Paperwork Reduction Act. This collection is a joint effort with the Office of Housing. The Department is soliciting public comments on the subject proposal. HUD is requesting extension of OMB approval for the applications for the Document Package for Applicant/Tenant's Consent to the Release of Information and the Authorization for the Release of Information/Privacy Act Notice.

DATES: Comments Due Date: April 2, 2007.

ADDRESSES: Interested persons are invited to submit comments regarding this proposal. Comments should refer to the proposal by name/or OMB Control number and should be sent to: Aneita Waites, Reports Liaison Officer, Public and Indian Housing, Department of Housing and Urban Development, 451 7th Street, SW., Room 4116, Washington, DC 20410-5000.

FOR FURTHER INFORMATION CONTACT: Aneita Waites, (202) 708-0713, extension 4114, for copies of the proposed forms (if any) and other available documents. (This is not a toll-free number).

SUPPLEMENTARY INFORMATION: The Department will submit the proposed information collection to OMB for review, as required by the Paperwork Reduction Act of 1995 (44 U.S.C. Chapter 35, as amended). This notice is soliciting comments from members of the public and affected agencies concerning the proposed collection of information to: (1) Evaluate whether the proposed collection of information is necessary for the proper performance of the functions of the agency, including whether the information will have practical utility; (2) evaluate the accuracy of the agency's estimate of the burden of the proposed collection of information; (3) enhance the quality, utility, and clarity of the information to be collected; and (4) minimize the burden of the collection of information on those who are to respond, including through the use of appropriate automated collection techniques or other forms of information technology; e.g., permitting electronic submission of responses.

This Notice also lists the following information:

Title of Proposal: Restrictions on Assistance to Noncitizens.

OMB Approval Number: 2501-0014.

Form Numbers: HUD-9886, HUD-9887.

Description of the need for the information and its proposed use: HUD is prohibited from making financial assistance available to other than citizens or persons of eligible immigration status. This is a request for an extension of the current approval for HUD to require a declaration of citizenship or eligible immigration status from individuals seeking certain housing assistance. Eligible immigrants must provide (1) The original alien registration documents and submission of a (2) verification consent form.

Members of Affected Public: Individuals or households, Business or other for-profit, State, Local, or Tribal Government.

Estimation of the total number of hours needed to prepare the information collection including number of respondents:

Frequency of Submission: On occasion, Annually.

| Number of respondents | Annual responses | × | Hours per response | = | Burden hours
Reporting Burden | 2,886,392 | 10,794,339 |  | 0.0333 |  | 360,214

Total Estimated Burden Hours: 360,214.

Status of the proposed information collection: Extension of currently approved collection.

Authority: Section 3507 of the Paperwork Reduction Act of 1995, 44 U.S.C. 35, as amended.

Dated: January 24, 2007.
Bessy Kong,
Deputy Assistant Secretary, Office of Policy, Program and Legislative Initiatives.

[FR Doc. E7-1452 Filed 1-29-07; 8:45 am]

BILLING CODE 4210-67-P